DEPARTMENT OF ENERGY

Federal Energy Regulatory Commission

[Docket No. RP96-359-014]

Transcontinental Gas Pipe Line Corporation; Notice of Negotiated Rates

April 3, 2003.

Take notice that on March 31, 2003, Transcontinental Gas Pipe Line Corporation (Transco) tendered for filing executed service agreements that contain negotiated rates under Transco's Rate Schedule FT between Transco and the following Customers: Cardinal FG Company; Cargill Inc.; Chattahoochee EMC (successor to Oglethorpe Power Corporation under the Precedent Agreement); City of Buford, Georgia; City of Covington, Georgia; City of Elberton, Georgia; City of Lawrenceville, Georgia; City of Madison, Georgia; City of Sugar Hill, Georgia; City of Winder, Georgia; Clinton-Newberry Natural Gas Authority; Exelon Generation Company, LLC; Fort Hill Natural Gas Authority; Progress Ventures (successor to Carolina Power & Light Company under the Precedent Agreement); and Sylacauga Utilities Board.

Transco states that the purpose of the instant filing is to comply with requirements specified in the Commission's Order issued February 14, 2002, “Order Issuing Certificate,” which required Transco, among other things, to file 30 to 60 days prior to the commencement of service of the Momentum Expansion Project, the negotiated rate agreements or tariff sheets reflecting the essential elements of its negotiated rate agreements. Transco states that the effective date of these negotiated rate transactions is May 1, 2003, which is the anticipated in-service date of Phase I of the Momentum Expansion Project.

Transco states that copies of the filing are being mailed to its affected customers and interested State Commissions.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 14, 2003.

Magalie R. Salas,
Secretary.

[FR Doc. 03-8790 Filed 4-9-03; 8:45 am]

BILLING CODE 6717-01-P